DEPARTMENT OF THE TREASURY

Internal Revenue Service

Advisory Group to the Commissioner of Internal Revenue; Charter Renewal

AGENCY: Internal Revenue Service (IRS), Treasury.

ACTION: Notice.

SUMMARY: The Charter for the Taxpayer Advocacy Panel Committee (TAP), has been renewed for a two-year period beginning February 20, 2020.

FOR FURTHER INFORMATION CONTACT: Ms.Terrie English, Taxpayer Advocacy Panel Director, at TaxpayerAdvocacyPanel@irs.gov.

SUPPLEMENTARY INFORMATION: Notice is hereby given under section 10(a)(2) of the Federal Advisory Committee Act, 5 U.S.C. App. (1988), and with the approval of the Secretary of the Treasury to announce the charter renewal for the Taxpayer Advocacy Panel Committee (TAP). The TAP purpose is to provide a taxpayer perspective to the Internal Revenue Service (IRS) on critical tax administrative programs. The TAP shall provide listening opportunities for taxpayers to independently identify suggestions or comments to improve IRS customer service through grass roots outreach efforts, and have direct access to elevate improvement recommendations to the appropriate operating divisions. The TAP shall also serve as a focus group to provide suggestions and/or recommendations directly to IRS management on IRS strategic initiatives.

Dated: March 2, 2020.
Kevin Brown,
Acting Director, Taxpayer Advocacy Panel.

[FR Doc. 2020-04515 Filed 3-4-20; 8:45 am]

BILLING CODE 4830-01-P